DEPARTMENT OF HOMELAND SECURITY

Office of the Secretary

[Docket Number DHS-2006-0025]

Privacy Act; Systems of Records

AGENCY: Office of Security, Department of Homeland Security.

ACTION: Notice of Privacy Act system of records.

SUMMARY: Pursuant to the Privacy Act of 1974, the Department of Homeland Security, Office of Security, proposes to add a new system of records to the Department's inventory, entitled “Office of Security File System.” This system will support the administration of a program which provides security for the Department by safeguarding and protecting the Department's personnel, property, facilities, and information.

DATES: The established system of records will be effective October 12, 2006, unless comments are received that result in a contrary determination.

ADDRESSES: You may submit comments identified by docket number DHS-2006-0025 by one of the following methods:

Federal e-Rulemaking Portal: http://www.regulations.gov. Follow the instructions for submitting comments.

Fax: (202) 401-4514 (not a toll-free number).

Mail: Marc E. Frey, Senior Advisor, Office of Security, 245 Murray Lane, SW., Building 410, Washington, DC 20528; Hugo Teufel III, Chief Privacy Officer, 601 S. 12th Street, Arlington, VA 22202.

FOR FURTHER INFORMATION CONTACT: Marc E. Frey, Senior Advisor, Office of Security, 245 Murray Lane, SW., Building 410, Washington, DC 20528 by telephone (202) 772-5096 or facsimile (202) 401-4514; Hugo Teufel III, Chief Privacy Officer, 601 S. 12th Street, Arlington, VA 22202 by telephone (571) 227-3813 or facsimile (571) 227-4171.

SUPPLEMENTARY INFORMATION: The Department of Homeland Security (DHS), Office of Security is publishing a Privacy Act system of records notice to cover its collection, use and maintenance of records relating to its security mission for the Department. Until now, pursuant to the savings clause in the Homeland Security Act of 2002, Public Law 107-296, sec. 1512, 116 Stat. 2310 (Nov. 25, 2002) (6 U.S.C. 552), the Office of Security has been relying on legacy Privacy Act systems for this purpose.

DHS established the Office of Security to protect and safeguard the Department's personnel, property, facilities, and information. The Office of Security develops, coordinates, implements, and oversees the Department's security policies, programs, and standards; delivers security training and education to DHS personnel; and provides security support to DHS components when necessary. In addition, the Office of Security coordinates and collaborates with the Intelligence Community on security issues and the protection of information. The Office of Security works to integrate security into every aspect of the Department's operations. The Office of Security is divided into seven divisions, as follows:

• Personnel Security: Background investigations, adjudications, and security clearances for DHS employees, as well as for State and local government personnel and private-sector partners;

• Administrative Security: The protection of classified and sensitive but unclassified information;

• Physical Security: Security surveys, vulnerability assessments, and access control for DHS facilities;

• Special Security Programs: Sensitive Compartmented Information (SCI) and Special Access Programs;

• Internal Security and Investigations: Protection against espionage, foreign intelligence service elicitation activities, and terrorist collection efforts directed against the Department; investigations of crimes against the Department's personnel and property;

• Training and Operations Security: Integrated security training policy and programs;

• Security Operations: Badging and credentialing programs.

The Office of Security records will cover not only DHS employees, but also contractors, consultants, volunteers, student interns, visitors, and others who have access to DHS facilities. The personal information to be collected will consist of data elements necessary to identify the individual and to perform background or other investigations concerning the individual. The system has been designed to closely align with the Office of Security's business practices.

The Privacy Act embodies fair information principles in a statutory framework governing the means by which the United States Government collects, maintains, uses and disseminates personally identifiable information. The Privacy Act applies to information that is maintained in a “system of records.” A “system of records” is a group of any records under the control of an agency from which information is retrieved by the name of the individual or by some identifying number, symbol, or other identifying particular assigned to the individual. The Office of Security File System is such a system of records.

The Privacy Act requires each agency to publish in the Federal Register a description denoting the type and character of each system of records that the agency maintains, and the routine uses that are contained in each system in order to make agency record keeping practices transparent, to notify individuals regarding the uses to which personally identifiable information is put, and to assist individuals to more easily find such files within the agency. Below is the description of the Office of Security File System.

In accordance with 5 U.S.C. 552a(r), a report on this system has been sent to Congress and to the Office of Management and Budget.

DHS-OS-001

System name:

Office of Security File System.

Security classification:

Unclassified and Classified.

System location:

The records maintained by the Office of Security are located within the headquarters facilities of the Department of Homeland Security (DHS), Washington, DC 20528.

Categories of individuals covered by the system:

Individuals involved in, or of interest to, DHS Office of Security activities, operations, or programs, including, but not limited to: current and former DHS employees; applicants for employment with DHS (including student interns); contractors and consultants providing services to DHS; Sate and local government personnel and private-sector individuals who maintain an access control card permitting access to a DHS facility or access to information technology systems that process national or homeland security information; DHS employees and contractors who may be a subject of a counter-terrorism, counterintelligence, or counter-espionage, or law enforcement investigation; senders of unsolicited communications that raise a security concern to the Department or its personnel; state and local government personnel and private-sector individuals who serve on an advisory committee and board sponsored by DHS; and state and local government personnel and private-sector individuals who are authorized by DHS to access sensitive or classified homeland security information, classified facilities, communications security equipment, and information technology systems that process national or homeland security classified information. The system also includes individuals accused of security violations or found in violation.

Categories of records in the system:

Records relating to the management and operation of the DHS personnel security and suitability program, including but not limited to, completed standard form questionnaires issued by the Office of Personnel Management; originals or copies of background investigative reports; supporting documentation related to the background investigations and adjudications; and other information relating to an individual's eligibility for access to classified or sensitive information.

Records relating to management and operation of DHS programs to safeguard classified and sensitive but unclassified information, including but not limited to, document control registries; courier authorization requests; non-disclosure agreements; record(s) of security violations; record(s) of document transmittal(s); and requests for secure storage and communications equipment.

Records relating to the management and operation of DHS special security programs, including but not limited to, requests for access to sensitive compartmented information (SCI); and foreign travel and foreign contact registries for individuals with SCI access.

Records relating to the management and operation of the DHS internal security program, including but not limited to, inquiries relating to suspected security violation(s); recommended remedial actions for possible security violation(s); reports of investigation regarding security violations; statements of individuals; affidavits; correspondence; and other documentation pertaining to investigative or analytical efforts by the DHS Office of Security to identify threats to the Department's personnel, property, facilities, and information; intelligence reports and database results relating to DHS personnel, applicants or candidates for DHS employment or a DHS contract, or other individuals interacting or having contact with DHS personnel or contractors; foreign contact registries for individuals; or unsolicited communications with DHS personnel or contractors that raise a security concern.

Records relating to the management and operation of the Office of Security's physical security, operations security, and security training and awareness programs, including but not limited to, briefing and course registries; facility access registries; access control card requests; and credential registries.

Additionally, specific information from standard forms used to conduct background investigations.

Authority for maintenance of the system:

Homeland Security Act of 2002; National Security Act of 1947; 44 U.S.C. Chapters 21, 29, 31, 33, and 35; 5 U.S.C. Sections 301, 3301, and 7902; 40 U.S.C. 1315; Executive Orders 10450,10865, 12333,12356, 12958, as amended, 12968, 13142, 13284; the Intelligence Reform and Terrorism Prevention Act of 2004, Public Law 108-458, Section 3001 (50 U.S.C. 435b).

Purpose(s):

The records in this system are used in the management and implementation of Office of Security programs and activities that support the protection of the Department's personnel, property, facilities, and information. These purposes include, but are not limited to, investigation and adjudication of personnel security and suitability determinations and access to classified national security information and sensitive but unclassified information; verification of access to classified national security information; determination of access to DHS facilities; certification of storage and processing facilities for classified national security information meet required standards; audit of contracts involving classified national security information; inventory of communications security equipment, materials/keys for such equipment, and classified publications; analysis, identification, and addressing of efforts to infiltrate the Department or collect classified or sensitive information; production of access control cards and audit of access to DHS facilities; notification of DHS personnel in emergency situations; maintenance of a central databank for investigations of misconduct involving the Department, its personnel, or its property. The records may be used to document security violations and supervisory actions taken.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

A. To designated officers and employees of Federal, State, local or international agencies in connection with the hiring or continued employment of an individual, the conduct of a suitability or security investigation of an individual, the grant, renewal, suspension, or revocation of a security clearance, or the certification of security clearances, to the extent that DHS determines the information is relevant and necessary to the hiring agency's decision;

B. To designated officers and employees of Federal, State, local or international agencies maintaining civil, criminal or other relevant enforcement information or other pertinent information, such as current licenses, if necessary for DHS to obtain information relevant to an agency decision concerning the hiring or retention of an employee, the issuance of a security clearance, the letting of a contract, or the issuance of a license, grant, or other benefit;

C. Except as noted on national security questionnaires, such as Forms SF 85, 85-P, and 86, records to an appropriate Federal, State, territorial, tribal, local, international, or foreign agency law enforcement authority charged with investigating or prosecuting a violation or enforcing or implementing a law where a record, either on its face or in conjunction with other information, indicates a violation or potential violation of law (e.g. criminal, civil or regulatory);

D. To a Federal, State, or local agency, or other appropriate entities or individuals, or through established liaison channels to selected foreign governments, in order to enable an intelligence agency to carry out its responsibilities under the National Security Act of 1947, as amended, the CIA Act of 1949, as amended, Executive Order 12333 or any successor order, applicable national security directives, or classified implementing procedures approved by the Attorney General and promulgated pursuant to such statutes, orders or directives.

E. To an organization or individual in either the public or private sector where there is a reason to believe that the recipient is or could become the target of a particular terrorist activity or conspiracy, to the extent the information is relevant to the protection of life or property.

F. To an authorized appeal or grievance examiner, formal complaints examiner, equal employment opportunity investigator, arbitrator, or other duly authorized official engaged in investigation or settlement of a grievance, complaint, or appeal filed by an employee;

G. To the United States Office of Personnel Management, the Merit Systems Protection Board, Federal Labor Relations Authority, or the Equal Employment Opportunity Commission when requested in the performance of their authorized duties;

H. To a congressional office from the record of an individual in response to an inquiry from that congressional office made at the request of the individual to whom the record pertains;

I. To contractors, grantees, experts, consultants, students, and others performing or working on a contract, service, grant, cooperative agreement, or other assignment for the Federal Government, when necessary to accomplish an agency function related to this system of records;

J. To the Department of Justice (DOJ) or in a proceeding before a court or adjudicative body before which DHS is authorized to appear, when: (a) DHS, or any component thereof; or, (b) any employee of DHS in his or her official capacity; or, (c) any employee of DHS in his or her individual capacity where the DOJ or DHS has agreed to represent the employee; or (d) the United States, where DHS determines that litigation is likely to affect the agency or any of its components, is a party to litigation or has an interest in such litigation, and the use of such records by the DOJ or by DHS before a court or adjudicative body is deemed by DHS to be relevant and necessary to the litigation, provided, however, that in each case, DHS determines that disclosure of the records is a use of the information contained in the records that is compatible with the purpose for which the records were collected.

K. To an agency, organization, or individual for the purposes of performing authorized audit or oversight operations.

L. To any source or potential source from which information is requested in the course of an investigation concerning the retention of an employee or other personnel action (other than hiring), or the retention of a security clearance, contract, grant, license, or other benefit, to the extent necessary to identify the individual, inform the source of the nature and purpose of the investigation, and to identify the type of information requested.

Disclosure to consumer reporting agencies:

Privacy Act information may be reported to consumer reporting agencies pursuant to 5 U.S.C. 552a(b)(12).

Policies and practices for storing, retrieving, accessing, retaining, and disposing of records in the system:

Storage:

The records maintained by the Office of Security are located within the headquarters of DHS, Washington, DC 20528.

The records are maintained in paper files and on electronic media.

Retrievability:

Information in the records may be retrieved by the name of the individual, social security number, or other unique individual identifier.

Safeguards:

All records are protected from unauthorized access through appropriate administrative, physical, and technical safeguards. These safeguards include restricting access to authorized personnel who have a “need-to-know,” utilization of password protection features, and locks on doors and approved storage containers. Buildings have security guards and secured doors, and all entrances are monitored by electronic surveillance equipment. Classified information is appropriately stored in accordance with applicable requirements.

Retention and disposal:

The files are destroyed in accordance with legal requirements and the disposition instructions in the General Records Schedule 18 issued by the National Archives and Records Administration (NARA).

System Manager and address:

DHS Privacy Office, Director of Departmental Disclosure, U.S. Department of Homeland Security, 245 Murray Lane, SW., Building 410, Washington, DC 20528.

Notification procedure:

A request for access to records in this system may be made by writing to the System Manager, the Director of Departmental Disclosure, in conformance with 6 CFR part 5, which provides the rules for requesting access to records maintained by the Department of Homeland Security.

Record access procedures:

Same as Notification Procedure above.

Contesting record procedures:

Same as Notification Procedure above. State clearly and concisely the information being contested, the reasons for contesting it, and the proposed amendment to the information sought.

Record source categories:

Information in security files may be obtained from other sources, including the following: Current and former DHS employees (including student interns); applicants for employment with DHS; contractors and consultants providing services to DHS; DHS personnel that maintain an access control card permitting access to a DHS facility; DHS personnel who may be a subject of a criminal, counter-terrorism, counter-espionage, or other criminal investigation; senders of unsolicited communications to the Department or its personnel; foreign nations who have contact with DHS, its personnel or its offices; State and local government personnel and private-sector individuals who serve on an advisory committee and board sponsored by DHS; State and local government personnel and private-sector individuals who are authorized by DHS to access sensitive or classified homeland security information, classified facilities, communications security equipment, and information technology systems which process national or homeland security classified information; State and local government personnel and private-sector individuals who require a DHS access control device that permits access to information technology systems which process national or homeland security classified information; law enforcement agencies; other government agencies; previous employers, colleagues, neighbors, references, informants or other sources; and representatives from educational institutions.

Exemptions claimed for the system:

In accordance with 5 U.S.C. 552a (k)(1), (k)(2), and (k)(5), the personnel security case files in this system of records are exempt from subsections (c)(3); (d); (e)(1); (e)(4)(G), (H), and (I); and (f) of the Privacy Act of 1974, as amended.

Dated: September 1, 2006.
Hugo Teufel III,
Chief Privacy Officer.

[FR Doc. E6-15045 Filed 9-11-06; 8:45 am]

BILLING CODE 4410-10-P